DEPARTMENT OF JUSTICE

Antitrust Division

Notice Pursuant to the National Cooperative Research and Production Act of 1993—System of Systems Security (SOSSEC) Consortium

Notice is hereby given that, on February 25, 2008, pursuant to Section 6(a) of the National Cooperative Research and Production Act of 1993, 15 U.S.C. 4301 et seq. (“the Act”), System of Systems Security (SOSSEC) Consortium has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to Section 6(b) of the Act, the identities of the parties are: DDN, Incorporated, Danville, NH; MATRX, Morgantown, WV; CACI, Eatontown, NJ; MountainTop Technologies Inc., Johnstown, PA; Abacus Technology Corp., Chevy Chase, MD; Rutgers University, The Center for Information Management, Newark, NJ; (Individual) L. Robert Kimball, Ebensburg, PA; FirTH, Alexandria, VA; and Concurrent Technology Corp., Largo, FL.

The general area of SOSSEC Consortium's planned activity is improving by an order of magnitude the nation's ability to detect, intervene, respond and recover to and from any and all threats on the homeland by integrating multiple existing and emerging Homeland Defense, Homeland Security and Force Protection projects and systems to markedly improve regional security, rapidly and efficiently; implementing practical strategies for core research, technology transition, system engineering and expansion and replication of regional capabilities to accelerate achievement of large scale interoperable security capabilities; also, growing SOSSEC to represent a community of interest, both public and private to foster best of breed concepts, technologies, techniques and procedures for long term national Homeland Defense, Homeland Security and Force Protection development.

Patricia A. Brink,
Deputy Director of Operations, Antitrust Division.

[FR Doc. E8-7013 Filed 4-4-08; 8:45 am]

BILLING CODE 4410-11-M